DEPARTMENT OF AGRICULTURE

National Institute of Food and Agriculture

Solicitation of Input From Stakeholders Regarding the Agriculture and Food Research Initiative (AFRI)

AGENCY: National Institute of Food and Agriculture, USDA.

ACTION: Notice of public meeting and request for stakeholder input.

SUMMARY: In Fiscal Year 2009, the National Institute of Food and Agriculture (NIFA), formerly known as the Cooperative State Research, Education, and Extension Service (CSREES), created a new research, education, and extension program called the Agriculture and Food Research Initiative (AFRI). The AFRI process has been iterative. Pursuant to the requirements of section 7406 of the Food, Conservation, and Energy Act of 2008, beginning in September of 2008 CSREES solicited public comment from persons who use or conduct research, extension, or education regarding the implementing regulation to be developed for this new program. In an effort to improve the quality of the AFRI program, NIFA is again holding a public meeting and soliciting public comments for consideration in the development of the Fiscal Year 2011 AFRI program solicitations. All comments must be received by close of business June 7, 2010, to be considered.

DATES: The meeting will be held on Wednesday, June 2, 2010, from 8:30 a.m. to 4:30 p.m.

ADDRESSES: The meeting will be held at the One Washington Circle Hotel, 1 Washington Circle, NW., Washington, DC 20037. You may submit comments, identified by Docket Number NIFA-2010-0001 by any of the following methods to the NIFA Docket Clerk:

Federal eRulemaking Portal: http://www.regulations.gov. Follow the instructions for submitting comments.

E-mail: afri@nifa.usda.gov. Include Docket Number NIFA-2010-0001 in the subject line of the message.

Fax: 202-401-1782.

Mail: Paper, disk or CD-ROM submissions should be submitted to AFRI; Competitive Programs (CP) Unit; National Institute of Food and Agriculture; U.S. Department of Agriculture; STOP 2240; 1400 Independence Avenue, SW.; Washington, DC 20250-2240.

Hand Delivery/Courier: AFRI; Competitive Programs (CP) Unit; National Institute of Food and Agriculture; U.S. Department of Agriculture; Room 2457, Waterfront Centre; 800 9th Street, SW.; Washington, DC 20024.

Instructions:

All submissions received must include the agency name and the Docket Number NIFA-2010-0001. All comments received will be posted to http://www.regulations.gov, including any personal information provided.

FOR FURTHER INFORMATION CONTACT: Ms. Terri Joya, (202) 401-1761 (phone), (202) 401-1782 (fax), or tjoya@nifa.usda.gov.

SUPPLEMENTARY INFORMATION:

Additional Meeting and Comment Procedures

Persons wishing to present oral comments at the Wednesday, June 2, 2010 meeting are requested to pre-register by contacting Ms. Terri Joya at (202) 401-1761, by fax at (202) 401-1782 or by e-mail to tjoya@nifa.usda.gov. Participants may reserve one 5-minute comment period. More time may be available, depending on the number of people wishing to make a presentation and the time needed for questions following presentations. Reservations will be confirmed on a first-come, first-served basis. All other attendees may register at the meeting. Written comments may also be submitted for the record at the meeting. All comments must be received by close of business June 7, 2010 to be considered. All comments and the official transcript of the meeting, when they become available, may be reviewed on the NIFA Web page for six months. Participants who require a sign language interpreter or other special accommodations should contact Ms. Joya as directed above.

Background and Purpose

Section 7406 of the Food, Conservation, and Energy Act of 2008 (Pub. L. 110-246) amended subsection 2(b) of the Competitive, Special, and Facilities Research Grant Act (7 U.S.C. 450i(b)) authorizing the Secretary of Agriculture to establish a new competitive grant program to provide funding for fundamental and applied research, extension, and education to address food and agricultural sciences. Subject to the availability of appropriations to carry out this program, the Secretary may award grants to State agricultural experiment stations; colleges and universities; university research foundations; other research institutions and organizations; Federal agencies; national laboratories; private organizations or corporations; individuals; or any group consisting of two or more of the aforementioned entities. Grants shall be awarded to address priorities in United States agriculture in the following areas: (A) Plant health and production and plant products; (B) Animal health and production and animal products; (C) Food safety, nutrition, and health; (D) Renewable energy, natural resources, and environment; (E) Agriculture systems and technology; and (F) Agriculture economics and rural communities. To the maximum extent practicable, NIFA, in coordination with the Under Secretary for Research, Education, and Economics (REE), will make awards for high priority research, education, and extension, taking into consideration, when available, the determinations made by the National Agricultural Research, Extension, Education, and Economics Advisory Board. The authority to carry out this program has been delegated to NIFA through the Undersecretary for REE.

NIFA is holding a public meeting to obtain comments to consider in developing the Fiscal Year 2011 solicitations for the AFRI competitive grants program. The meeting is open to the public. Written comments and suggestions on issues that may be considered in the meeting may be submitted to the NIFA Docket Clerk at the address above.

Summary of Agriculture and Food Research Initiative

The program authorizes $700 million in grants for FY 2008-12, of which the Secretary may retain no more than 4% for administrative costs. Funds will be available for obligation for a two-year period beginning in the fiscal year for which funds are first made available. Grants will be awarded on the basis of merit, quality, and relevance and may have terms of up to 10 years.

Of the AFRI funds allocated to research activities, section 7406 directs 60 percent toward grants for fundamental (or basic) research, and 40 percent toward applied research. Of the AFRI funds allocated to fundamental research, not less than 30 percent of AFRI grants will be directed toward research by multidisciplinary teams. In addition, the law specifies that of the total amount appropriated for AFRI, not less than 30 percent is to be used for integrated programs.

Implementation Plans

NIFA plans to consider stakeholder input received from this public meeting as well as other written comments in developing the Fiscal Year 2011 solicitations for this program.

Done at Washington, DC, this 3rd day of May 2010.
Meryl Broussard,
Interim Deputy Director, National Institute of Food and Agriculture.

[FR Doc. 2010-10690 Filed 5-6-10; 8:45 am]

BILLING CODE 3410-22-P